DEPARTMENT OF COMMERCE

Foreign-Trade Zones Board

[S-184-2020]

Approval of Subzone Status Robert Bosch Tool Corporation West Memphis, Arkansas

On October 22, 2020, the Executive Secretary of the Foreign-Trade Zones (FTZ) Board docketed an application submitted by the City of West Memphis, Arkansas Public Facilities Board, grantee of FTZ 273, requesting subzone status subject to the existing activation limit of FTZ 273, on behalf of Robert Bosch Tool Corporation in West Memphis, Arkansas.

The application was processed in accordance with the FTZ Act and Regulations, including notice in the Federal Register inviting public comment (85 FR 68038, October 27, 2020). The FTZ staff examiner reviewed the application and determined that it meets the criteria for approval.

Pursuant to the authority delegated to the FTZ Board Executive Secretary (15 CFR Sec. 400.36(f)), the application to establish Subzone 273A was approved on January 7, 2021, subject to the FTZ Act and the Board's regulations, including Section 400.13, and further subject to FTZ 273's 341-acre activation limit.

Dated: January 7, 2021.
Andrew McGilvray,
Executive Secretary.

[FR Doc. 2021-00532 Filed 1-12-21; 8:45 am]

BILLING CODE 3510-DS-P